DEPARTMENT OF ENERGY

Federal Energy Regulatory Commission

[Docket No. IC14-14-000]

Commission Information Collection Activities (FERC-519); Comment Request; Extension

AGENCY: Federal Energy Regulatory Commission.

ACTION: Notice of information collection and request for comments.

SUMMARY: In compliance with the requirements of the Paperwork Reduction Act of 1995, 44 USC 3506(c)(2)(A), the Federal Energy Regulatory Commission (Commission or FERC) is soliciting public comment on the currently approved information collection, Application under Federal Power Act Section 203.

DATES: Comments on the collection of information are due July 28, 2014.

ADDRESSES: You may submit comments (identified by Docket No. IC14-14-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-519, Application under Federal Power Act Section 203.

OMB Control No.: 1902-0082.

Type of Request: Three-year extension of the FERC-519 information collection requirements with no changes to the current reporting requirements.

Abstract: The FERC-519, “Application under Federal Power Act Section 203,” is necessary to enable the Commission to carry out its responsibilities in implementing the statutory provisions of Section 203 of the Federal Power Act (FPA), 16 U.S.C. 824b. Section 203 authorizes the Commission to grant approval of transactions in which a public utility disposes of jurisdictional facilities, merges such facilities with the facilities owned by another person or acquires the securities of another public utility. Under this statute, the Commission must find that the proposed transaction will be consistent with the public interest.

Under section 203 of the FPA, FERC must review proposed mergers, acquisitions and dispositions of jurisdictional facilities by public utilities, if the value of the facilities exceeds $10 million, and must approve these transactions if they are consistent with the public interest. One of FERC's overarching goals is to promote competition in wholesale power markets, having determined that effective competition, as opposed to traditional forms of price regulation, can best protect the interests of ratepayers. Market power, however, can be exercised to the detriment of effective competition and customers, making it necessary for FERC to review and approve or disapprove all jurisdictional mergers, dispositions and acquisitions. The Commission implements these filing requirements in the Code of Federal Regulations (CFR) under 18 CFR part 33.

Type of Respondents: Public utilities subject to the FPA.

Estimate of Annual Burden: ¹ The Commission estimates the total Public Reporting Burden for this information collection as:

¹ The Commission defines burden as the total time, effort, or financial resources expended by persons to generate, maintain, retain, or disclose or provide information to or for a Federal agency. For further explanation of what is included in the information collection burden, reference 5 Code of Federal Regulations 1320.3.

FERC-519
[Application under Federal Power Act Section 203]
| Number of respondents | Annual number of responses per respondent | Total number of responses | Average burden & cost per response ² | Total annual burden hours & total annual cost | Cost per respondent ($)
| (1) | (2) | (1)*(2)=(3) | (4) | (3)*(4)=(5) | (5)÷(1)
FERC-519 | 141 | 1 | 141 | 395 | 55,695 | $27,847.5
|  |  |  | $27,847.5 | $3,926,498 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimates for cost per response are derived using the following formula: Average Burden Hours per Response * $70.50 per Hour = Average Cost per Response. The hourly cost figure of $70.50 is the average FERC employee wage plus benefits. We assume that respondents earn at a similar rate.

Dated: May 19, 2014.
Kimberly D. Bose,
Secretary.

[FR Doc. 2014-12195 Filed 5-27-14; 8:45 am]

BILLING CODE 6717-01-P